ENVIRONMENTAL PROTECTION AGENCY

[FRL 10010-80-Region 3]

Notice of Administrative Settlement Agreement in Connection With the J.H. & C.K. Eagle Mill (Kulpmont) Site, Kulpmont, Northumberland County, Pennsylvania

AGENCY: Environmental Protection Agency (EPA).

ACTION: Notice; request for public comment.

In accordance with the Comprehensive Environmental Response, Compensation, and Liability Act (“CERCLA”), notice is hereby given that a proposed administrative settlement agreement for recovery of response costs (“Proposed Agreement”) associated with the J.H. & C.K. Eagle Mill (Kulpmont) Site in Kulpmont, Northumberland County, Pennsylvania (“Site”) was executed by the Environmental Protection Agency (“EPA”) and is now subject to public comment, after which EPA may modify or withdraw its consent if comments received disclose facts or considerations that indicate that the Proposed Agreement is inappropriate, improper, or inadequate. The Proposed Agreement would resolve potential EPA claims under Section 107(a) of CERCLA, against PAD Kulpmont LLC (“Settling Party”). The Proposed Agreement would require Settling Party to sell the Site property and pay EPA 80 percent of the sales proceeds.

For thirty (30) days following the date of publication of this notice, EPA will receive electronic comments relating to the Proposed Agreement. EPA's response to any comments received will be available for public inspection by request. Please see the ADDRESSES section of this notice for special instructions in effect due to impacts related to the COVID-19 pandemic.

DATES: Comments must be submitted electronically on or before September 2, 2020.

ADDRESSES: As a result of impacts related to the COVID-19 pandemic, requests for documents and submission of comments must be via electronic mail except as provided below. The Proposed Agreement and additional background information relating to the Proposed Agreement are available for public inspection upon request by contacting EPA Senior Assistant Regional Counsel Andrew S. Goldman at goldman.andrew@epa.gov. Comments must be submitted via electronic mail to this same email address and should reference the “J.H. & C.K. Eagle Mill (Kulpmont) Site, Proposed Settlement Agreement” and “EPA CERCLA Docket No. CERC-03-2020-0080CR.” Persons without access to electronic mail may call Mr. Goldman at (215) 814-2487 to make alternative arrangements.

FOR FURTHER INFORMATION CONTACT: Andrew S. Goldman at EPA by phone ((215) 814-2487) or email (Goldman.andrew@epa.gov).

Dated: June 16, 2020.
Paul Leonard,
Director, Superfund & Emergency Management Division,Region III.

[FR Doc. 2020-16813 Filed 7-31-20; 8:45 am]

BILLING CODE 6560-50-P